DEPARTMENT OF ENERGY

Federal Energy Regulatory Commission

[Docket No. RP03-129-000]

Panhandle Eastern Pipe Line Company; Notice of Tariff Filing

December 3, 2002.

Take notice that on November 27, 2002, Panhandle Eastern Pipe Line Company (Panhandle) tendered for filing as part of its FERC Gas Tariff, First Revised Volume No. 1, the following pro forma tariff sheets:

Pro Forma Sheet No. 249

Pro Forma Sheet No. 249A

Pro Forma Sheet No. 250

Pro Forma Sheet No. 250A

Pro Forma Sheet No. 254

Pro Forma Sheet No. 254A

Panhandle states that this filing is being made to comply with the Commission's Order on Remand issued October 31, 2002 in Docket No. RM98-10-011. Panhandle is modifying section 10.2(a) and (b) and section 11.5(a) and (b) of the General Terms and Conditions of its FERC Gas Tariff to permit segmented transactions consisting of a forwardhaul and a backhaul to the same point. In such a segmented transaction, the revised tariff sheets make clear that the shipper may exceed its maximum daily contract quantity at such point and the shipper may nominate quantities of gas in each segment up to its maximum daily contract quantity in the segment. Consistent with the Commission's policy and the Remand Order, the revised tariff sheets clarify that the portion of such a transaction in which the flow is the opposite of the shipper's primary path will be considered to be outside the primary path for scheduling purposes.

Panhandle states that copies of this filing are being served on all jurisdictional customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31104 Filed 12-6-02; 8:45 am]

BILLING CODE 6717-01-P